DEPARTMENT OF TRANSPORTATION

Federal Highway Administration

Notice of Final Federal Agency Actions on the Interstate 64 Peninsula Study in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the construction of one additional highway lane in each direction on Interstate 64 from approximately Exit 255 in the east to approximately Exit 247 in the west in the City of Newport News, Virginia. Those actions grant licenses, permits, and approvals for the project.

DATES: By this notice, the FHWA is advising the public of final agency actions subject to 23 U.S.C. 139(l)(1). A claim seeking judicial review of the Federal agency actions on the project will be barred unless the claim is filed on or before October 20, 2014. If the Federal law that authorizes judicial review of a claim provides a time period of less than 150 days for filing such claim, then that shorter time period still applies.

FOR FURTHER INFORMATION CONTACT: For FHWA: Mr. John Simkins, Planning and Environment Team Leader, Federal Highway Administration, 400 North 8th Street, Richmond, Virginia 23219; telephone: (804) 775-3347; email: John.Simkins@dot.gov. The FHWA Virginia Division Office's normal business hours are 7:00 a.m. to 5:00 p.m. (Eastern Time). For the Virginia Department of Transportation (VDOT): Mr. Scott Smizik, 1401 East Broad Street, Richmond, Virginia 23219; email: Scott.Smizik@vdot.virginia.gov; telephone: (804) 371-4082.

SUPPLEMENTARY INFORMATION: Notice is hereby given that FHWA has taken final agency actions subject to 23 U.S.C. 139(l)(1) by issuing licenses, permits, and approvals for the following project in the State of Virginia: Constructing one additional highway lane in each direction in the median of Interstate 64 from approximately Exit 255 in the east to approximately Exit 247 in the west in the City of Newport News, Virginia. This project is the first operationally independent section to be advanced from the Interstate 64 Peninsula Study Final Environmental Impact Statement (FEIS). The actions taken by FHWA, and the laws under which such actions were taken, are described in the FEIS, the Virginia Department of Transportation's Request for the Record of Decision (ROD), and FHWA's ROD. The FEIS was signed on November 26, 2013. The ROD was issued on April 21, 2014. The FEIS, Request for the ROD, and ROD can be viewed on the project's internet site at http://www.virginiadot.org/projects/hamptonroads/i-64_peninsula_study.asp. These documents and other project records are also available by contacting FHWA or VDOT at the phone numbers and addresses provided above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536].

5. Historic and Cultural Resources: Section 106 of the National Historic Preservation Act of 1966, as amended [16 U.S.C. 470(f) et seq.]; Archeological and Historic Preservation Act of 1977 [16 U.S.C. 469-469(c)] .

6. Social and Economic: Civil Rights Act of 1964 [42 U.S.C. 2000(d)-2000(d)(1)]; Farmland Protection Policy Act [7 U.S.C. 4201-4209].

7. Executive Orders: E.O. 12898, Federal Actions to Address Environmental Justice in Minority Populations and Low Income Populations.

(Catalog of Federal Domestic Assistance Program Number 20.205, Highway Planning and Construction. The regulations implementing Executive Order 12372 regarding intergovernmental consultation on Federal programs and activities apply to this program.)

Authority: 23 U.S.C. 139(l)(1).

Issued on: May 15, 2014.
John Simkins,
Planning and Environment Team Leader, Richmond, Virginia.

[FR Doc. 2014-11761 Filed 5-20-14; 8:45 am]

BILLING CODE 4910-RY-P